DEPARTMENT OF TRANSPORTATION

Federal Aviation Administration

14 CFR Part 39

[Docket No. 2001-NM-346-AD]

RIN 2120-AA64

Airworthiness Directives; Bombardier Model CL-600-2B19 Series Airplanes

AGENCY: Federal Aviation Administration, DOT.

ACTION: Notice of proposed rulemaking (NPRM).

SUMMARY: This document proposes the adoption of a new airworthiness directive (AD) that is applicable to certain Bombardier Model CL-600-2B19 series airplanes. This proposal would require inspection of certain installed electrical relays to determine whether they have certain manufacturing date codes, and replacement of the electrical relays with those date codes with new relays with different manufacturing date codes. This action is necessary to prevent the failure of an electrical relay due to a defective moving blade assembly, which could result in the inability to generate electrical power from the emergency system, if needed. This action is intended to address the identified unsafe condition.

DATES: Comments must be received by May 6, 2002.

ADDRESSES: Submit comments in triplicate to the Federal Aviation Administration (FAA), Transport Airplane Directorate, ANM-114, Attention: Rules Docket No. 2001-NM-346-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-346-AD” in the subject line and need not be submitted in triplicate. Comments sent via the Internet as attached electronic files must be formatted in Microsoft Word 97 for Windows or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Luciano Castracane, Aerospace Engineer, Systems and Flight Test Branch, ANE-172, FAA, New York Aircraft Certification Office, 10 Fifth Street, Third Floor, Valley Stream, New York 11581; telephone (516) 256-7535; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-346-AD.” The postcard will be date stamped and returned to the commenter.

Availability of NPRMs

Any person may obtain a copy of this NPRM by submitting a request to the FAA, Transport Airplane Directorate, ANM-114, Attention: Rules Docket No. 2001-NM-346-AD, 1601 Lind Avenue, SW., Renton, Washington 98055-4056.

Discussion

Transport Canada Civil Aviation (TCCA), which is the airworthiness authority for Canada, notified the FAA that an unsafe condition may exist on certain Bombardier Model CL-600-2B19 series airplanes. TCCA advises that certain Leach “H” series electrical relays having part number (P/N) H-A4A-039 may have defective moving blade assemblies due to improper heat treatment. These defective Leach “H” series relays were manufactured between March 12, 2000, and December 10, 2000, and have manufacturing date codes from 0011 to 0050. These relays were not installed in airplanes having line numbers 7003-7067 inclusive and 7069-7373 inclusive at the time of delivery. However, if any of the airplanes with those line numbers have had an original relay replaced after March 1, 2000, it is possible that the replacement relay was defective. According to Leach International, relays with the defective moving blade assemblies failed within the first 500 flight cycles. This action is necessary to prevent the failure of an electrical relay due to a defective moving blade assembly, which could result in the inability to generate electrical power from the emergency system, if needed.

Explanation of Relevant Service Information

Bombardier has issued Alert Service Bulletin A601R-24-105, Revision “A”, dated July 20, 2001, which describes procedures for inspection of Leach “H” series relays having part number (P/N) H-A4A-039 to determine the manufacturing date code. The service bulletin also describes procedures for replacement of those Leach “H” series relays having manufacturing date codes 0011 through 0050 with new Leach “H” series relays having the same part number but different manufacturing date codes.

The affected relays—called “suspect relays” in the service bulletin—are the following:

• The air-driven generator (ADG) emergency hydraulic power transfer relay (K1XC),

• The ADG emergency electrical power transfer relay (K2XD), and

• The alternating current (AC) essential power transfer relay (K3XD).

TCCA classified this service bulletin as mandatory and issued Canadian airworthiness directive CF-2001-27, dated July 24, 2001, in order to assure the continued airworthiness of these airplanes in Canada.

FAA's Conclusions

This airplane model is manufactured in Canada and is type certificated for operation in the United States under the provisions of § 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences between the Service Bulletin and this AD

The service bulletin recommends that the visual inspection for suspect relays be conducted in conjunction with replacement of any suspect relays. However, this AD would require an inspection for suspect relays within 14 days after the effective date of the AD. The replacement of any suspect relays detected would not be required until the passage of 500 or 1,000 flight hours after the effective date of the AD, depending upon the relay.

Cost Impact

The FAA estimates that 160 airplanes of U.S. registry would be affected by this proposed AD. It would take approximately 1 work hour per airplane to accomplish the proposed inspection at an average labor rate of $60 per work hour. Based on these figures, the cost impact of the proposed inspection on U.S. operators is estimated to be $9,600, or $60 per airplane.

It would take approximately 2 work hours per airplane to accomplish the proposed replacement of suspect relay K1XC at an average labor rate of $60 per work hour. There would be no charge for the replacement part. Based on these figures, the cost impact of the proposed replacement of suspect relay K1XC on U.S. operators is estimated to be a maximum of $19,200, or $120 per airplane.

It would take approximately 2 work hours per airplane to accomplish the proposed replacement of suspect relays K2XD and K3XD at an average labor rate of $60 per work hour. There would be no charge for the replacement parts. Based on these figures, the cost impact of the proposed replacement of suspect relays D or K3XD on U.S. operators is estimated to be a maximum of $19,200, or $120 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly Canadair): Docket 2001-NM-346-AD.

Applicability: Model CL-600-2B19 series airplanes, serial numbers 7003 through 7495 inclusive, 7497 through 7502 inclusive, and 7505 through 7507 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent the failure of an electrical relay due to a defective moving blade assembly, which could result in the inability to generate electrical power from the emergency system, if needed, accomplish the following:

Inspection

(a) Within 14 days after the effective date of this AD: Perform an inspection to determine whether installed Leach “H” series power transfer relays K1XC, K2XD, and K3XD, all having part number (P/N) H-A4A-039, have a manufacturing date code of 0011 through 0050. The inspection for such “suspect relays” is to be performed in accordance with Bombardier Alert Service Bulletin A601R-24-105, Revision “A”, dated July 20, 2001.

Note 2: Inspections accomplished prior to the effective date of this AD in accordance with Bombardier Alert Service Bulletin A601R-24-105, dated July 4, 2001, are considered acceptable for compliance with the applicable action specified in this amendment.

(b) As of the effective date of this AD: For airplanes determined to have suspect Leach “H” series relays K1XC or K2XD installed, dispatch with an inoperative integrated-drive generator (IDG) or auxiliary power unit (APU) is prohibited until replacement of the relay with a new relay is accomplished in accordance with paragraphs (c) and (d) of this AD.

Replacement

(c) Within 500 flight hours after the effective date of this AD: Replace suspect relay K1XC with a new relay having a manufacturing date code other than 0011 through 0050, in accordance with Bombardier Alert Service Bulletin A601R-24-105, Revision “A”, dated July 20, 2001.

Note 3: Replacement of suspect relay K1XC accomplished prior to the effective date of this AD in accordance with Bombardier Alert Service Bulletin A601R-24-105, dated July 4, 2001, is considered acceptable for compliance with the applicable action specified in this amendment.

(d) Within 1,000 flight hours after the effective date of this AD: Replace suspect relays K2XD and K3XD with new relays having a manufacturing date code other then 0011 through 0050, in accordance with Bombardier Alert Service Bulletin A601R-24-105, Revision “A”, dated July 20, 2001.

Note 4: Replacement of suspect relays K2XD and K3XD accomplished prior to the effective date of this AD in accordance with Bombardier Alert Service Bulletin A601R-24-105, dated July 4, 2001, is considered acceptable for compliance with the applicable action specified in this amendment.

Spares

(e) As of the effective date of this AD, no person shall install a Leach “H” series electrical relay having P/N H-A4A-039 that has a manufacturing date code of 0011 through 0050 on any airplane.

Alternative Methods of Compliance

(f) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 5: Information concerning the existence of approved alternative methods of compliance with this AD, if any, may be obtained from the New York ACO.

Special Flight Permits

(g) Special flight permits may be issued in accordance with §§ 21.197 and 21.199 of the Federal Aviation Regulations (14 CFR 21.197 and 21.199) to operate the airplane to a location where the requirements of this AD can be accomplished.

Note 6: The subject of this AD is addressed in Canadian airworthiness directive CF-2001-27, dated July 24, 2001.

Issued in Renton, Washington, on March 29, 2002.
Kalene C. Yanamura,
Acting Manager, Transport Airplane Directorate, Aircraft Certification Service.

[FR Doc. 02-8174 Filed 4-3-02; 8:45 am]

BILLING CODE 4910-13-P